DEPARTMENT OF ENERGY

Federal Energy Regulatory Commission

[Docket No. RP02-318-002]

Questar Southern Trails Pipeline Company; Notice of Compliance Filing

March 12, 2003.

Take notice that on March 10, 2003, Questar Southern Trails Pipeline Company (Southern Trails) tendered for filing as part of its FERC Gas Tariff, Original Volume No. 1, the following tariff sheets, to be effective March 1, 2003:

First Revised Sheet No. 1

Second Revised Sheet No. 4

First Revised Sheet Nos. 5, 30, 53, 58, 69, 89 and 112

Southern Trails states that the filing is being made in compliance with the Commission's Order on Compliance with Order Nos. 637, 587-K, 587-L, 587-M and 587-N issued February 6, 2003, (February Order) in Docket Nos. RP02-318-000 and RP02-318-001.

On May 1, 2002, Southern Trails filed tariff sheets in Docket Nos. CP99-163-000, et al., and RP02-318-000 in compliance with the Commission's Preliminary Determination on Nonenvironmental Issues. Southern Trails also filed tariff sheets in compliance with Commission Order Nos. 637, 587-G, 587-L, 587-M and 587-N. On June 5, 2002, the Commission issued an order in Docket Nos. RP02-318-000 and RP02-318-0011 approving Southern Trails' tariff filing, subject to further review, in its compliance with FERC Order Nos. 637 and 587-K through 587-N. Subsequently, the Commission issued the February Order and approved, in part, Southern Trails' FERC Order Nos. 637, 587-G, 587-L, 587-M and 587-N tariff sheets. The Commission, in the February Order, directed Southern Trails to make revisions to its tariff sheets as discussed in the February Order and file revised actual tariff sheets within 30 days of the date of issuance of the order with an effective date of March 1, 2003. This filing is tendered to comply with the Commission's February Order.

Southern Trails states that a copy of this filing has been served upon its customers and the public service commissions of Utah, New Mexico, Arizona and California.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 24, 2003.

Magalie R. Salas,
Secretary.

[FR Doc. 03-6527 Filed 3-18-03; 8:45 am]

BILLING CODE 6717-01-P